DEPARTMENT OF ENERGY

Federal Energy Regulatory Commission

[Docket No. CP00-114-000]

Trunkline Gas Company; Notice of Application

March 15, 2000.

Take notice that on March 9, 2000, Trunkline Gas Company (Trunkline), 5444 Westheimer Road, Houston, Texas 77056-5306, filed an application pursuant to Section 7(b) of the Natural Gas Act (NGA) and the Commission's Regulations thereunder, for an order permitting and approving the abandonment of 720 miles of mainline transmission facilities by transfer to CMS Trunkline Pipeline Holdings, Inc. (TPH), for conversion to refined petroleum products transportation service, all as more fully set forth in the application on file with the Commission and open to public inspection. This filing may be viewed on the web at http://www.ferc.fed.us/online/rims.htm (call 202-208-2222 for assistance).

Any questions regarding this application should be directed to William W. Grygar, Vice President of Rates and Regulatory Affairs, 5444 Westheimer Road, Houston, Texas 77056-5306 at (713) 989-7000.

Specifically, Trunkline is requesting authorization to abandon approximately 720 miles of mainline facilities known as the 26-inch Line 100-1 by transfer to TPH,¹ and thereby reduce its certificated mainline capacity by 255 MDt/d, from the current level of 1,810 MDt/d to 1,555 MDt/d. Trunkline states that abandonment of these facilities is being proposed in response to the underutilization of Trunkline's system that exists on an annual basis and the excess capacity which exists in the Midwest region. Trunkline states that in the absence of vigorous discounting practices, the actual underutilization of its system would be substantially greater. Trunkline further states that the abandonment will have no adverse effect on the service needs of existing or future customers and will not affect Trunkline's ability to meet all of its firm service obligations. Trunkline states that the abandonment will allow Trunkline to redeploy these pipeline facilities to serve the public interest in another area of interstate commerce. Trunkline states that no adverse environmental impact will result from the proposed abandonment.

¹ Trunkline states the TPH is a wholly-owned subsidiary of Trunkline.

Any person desiring to be heard or to make any protest with reference to said application should on or before April 5, 2000, file with the Federal Energy Regulatory Commission, Washington, DC 20426, a petition to intervene or a protest in accordance with the requirements of the Commission's Rules of Practice and Procedure (18 CFR 385.214 or 385.211) and Regulations under the Natural Gas Act (18 CFR 157.10). All protests filed with the Commission will be considered by it in determining the appropriate action to be taken but will not serve to make protestants parties to the proceeding. Any person wishing to become a party to a proceeding or to a participate as a party in any hearing therein must file a petition to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no petition to intervene is filed within the time required herein, if the Commission on its own review of the matter finds that a grant of the certificate is required by the public convenience and necessity. If a petition for leave is timely filed, or if the Commission on its own motion believes that a formal hearing is required, further notice of such hearing will be duly given.

Under the procedure provided for, unless otherwise advised, it will be unnecessary for Trunkline to appear or be represented at the hearing.

Linwood A. Watson, Jr.,
Acting Secretary.

[FR Doc. 00-6884 Filed 3-20-00; 8:45 am]

BILLING CODE 6717-01-M